DEPARTMENT OF THE INTERIOR

Bureau of Land Management

[CA-650-1430-ET; CACA 2642 01]

Notice of Proposed Withdrawal and Opportunity for Public Meeting; California; Correction

AGENCY: Bureau of Land Management, Interior.

ACTION: Notice; correction.

SUMMARY: This document corrects a legal description contained in the notice of proposed withdrawal published in the Federal Register of April 12, 2000, regarding the Desert Tortoise Natural Area. This correction includes the legal description of three lots that were inadvertently omitted in the original notice.

FOR FURTHER INFORMATION CONTACT: Duane Marti, BLM California State Office, 916-978-4675 or Janet Eubanks, BLM California District Office, 909-697-5376.

Correction

In the notice of proposed withdrawal, FR Doc. 00-9022, beginning on page 19793 in the issue of April 12, 2000, make the following correction:

On page 19794, in the second column, the legal description for sec. 5 of T. 32 E., R. 38 E., is corrected to read

Sec. 5, lots 15, 28, 31, 41, 49, 51, 99, 103, 113, 119, 136, 142, 170, 179, 191, 193, 200, 218, 220, and 223 of Tract No. 2714, as per map filed December 7, 1962 in Book 13 Pages 94 to 98, inclusive of maps in the office of the county recorder of said county.

Dated: June 10, 2000.
Duane Marti,
Acting Chief, Branch of Lands.

[FR Doc. 00-15784 Filed 6-21-00; 8:45 am]

BILLING CODE 4310-40-P